DEPARTMENT OF TRANSPORTATION

Federal Aviation Administration

Forum in Capabilities of the Global Positioning System (GPS) Wide Area Augmentation System (WAAS) and Local Area Augmentation System (LAAS)

AGENCY: Federal Aviation Administration, DOT.

ACTION: Notice of meeting.

Name: FAA SOIT Forum on GPS/WAAS/LAAS Capabilities.

Time and Date: 9 a.m.-5 p.m., June 3-4, 2002.

Place: Holiday Inn Fair Oaks Hotel, 11787 Lee Jackson Memorial Hwy, Fairfax, Virginia 22033.

Status: Open to the aviation industry with attendance limited to space available.

Purpose: The FAA SOIT will be hosting a public forum to discuss the FAA's GPS approvals and WAAS/LAAS operational implementation plans. This meeting will be held in conjunction with a regularly scheduled meeting of the FAA SOIT and in response to aviation industry requests to the FAA Administrator. Formal presentations by the FAA will be followed by question and answer sessions. Those planning to attend are invited to submit proposed discussion topics.

Registration: Participants are requested to register their intent to attend this meeting by May 31, 2002. Names, affiliations, email addresses, telephone and facsimile numbers should be sent to the point of contact listed below.

Point of Contact: Registration and submission of suggested discussion topics may be made to Mr. Steven Albers, phone (202) 267-7301, fax (202) 267-5086, or email at steven.CTR.albers@faa.gov.

Issued in Washington DC on May 3, 2002.
Hank Cabler,
SOIT Co-Chairman.

[FR Doc. 02-13134 Filed 5-23-02; 8:45 am]

BILLING CODE 4910-13-M